FEDERAL COMMUNICATIONS COMMISSION

47 CFR Part 74

[MB Docket No. 18-119; Report No. 3132]

Petitions for Reconsideration of Action in Proceeding

AGENCY: Federal Communications Commission.

ACTION: Petition for Reconsideration.

SUMMARY: Petitions for Reconsideration (Petitions) have been filed in the Commission's proceeding by Louis P. Vito, on behalf of V-Tech Communications, Inc.; by Brad Johnson, on behalf of KGIG-LP; by Michael W. Richards, on behalf of LPFM Coalition; by David J. Doherty, on behalf of Skywaves Communications LLC; and by Charles M. Anderson, on behalf of Charles M. Anderson.

DATES: Oppositions to the Petitions must be filed on or before August 15, 2019. Replies to an opposition must be filed on or before August 26, 2019.

ADDRESSES: Federal Communications Commission, 445 12th Street SW, Washington, DC 20554.

FOR FURTHER INFORMATION CONTACT: Christine Goepp, Attorney Advisor, Media Bureau, Audio Division, (202) 418-7834; Lisa Scanlan, Deputy Division Chief, Media Bureau, Audio Division, (202) 418-2704.

SUPPLEMENTARY INFORMATION: This is a summary of the Commission's document, Report No. 3132, released July 19, 2019. The full text of the Petitions are available for viewing and copying at the FCC Reference Information Center, 445 12th Street SW, Room CY-A257, Washington, DC 20554. Petitions also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Amendment of Part 74 of the Commission's Rules Regarding FM Translator Interference, MB Docket No. 18-119, Report and Order, FCC 19-40, published at 84 FR 27734 on June 14, 2019 (date correction published at 84 FR 29806 (June 25, 2019)). This document is being published pursuant to 47 CFR 1.429(e). See also 47 CFR 1.4(b)(1) and 1.429(f), (g).

Number of Petitions Filed: 5.

Federal Communications Commission.
Marlene Dortch,
Secretary, Office of the Secretary.

[FR Doc. 2019-16333 Filed 7-30-19; 8:45 am]

BILLING CODE 6712-01-P